FEDERAL COMMUNICATIONS COMMISSION

[DA 01-2435]

Implementation of the International Telecommunication Union Charges for Satellite Network Filings

AGENCY: Federal Communications Commission.

ACTION: Notice.

SUMMARY: In this document, the Commission establishes the information that U.S. satellite operators must file with the Commission for compliance with the International Telecommunication Union (ITU) satellite cost recovery program, as modified by the recent meeting of the ITU Council. Specifically, the Commission requires licensees and applicants for certain satellite network applications and filings to provide specific information regarding the contact persons for such charges. Contact information must accompany all relevant future filings. This Notice will help U.S. satellite operators meet the requirements of the ITU as the ITU implements its recently adopted cost recovery-based charging process.

DATES: Satellite operators with pending filings subject to ITU fees must submit the required information March 4, 2002.

ADDRESSES: Send contact information to Oleg Efrimov, Satellite Engineering Branch, International Bureau, c/o Office of the Secretary, Federal Communications Commission, Washington, DC 20554.

FOR FURTHER INFORMATION CONTACT: Jacqueline Spindler, 202 418 1479, jspindle@fcc.gov.

SUPPLEMENTARY INFORMATION: This is a summary of the Public Notice—International Bureau Information, DA 01-2435, adopted October 19, 2001, and released October 19, 2001. The complete text of this Notice is available for inspection and copying during normal business hours in the FCC Reference Information Center, Courtyard Level, 445 12th Street, SW., Washington, DC 20554 and also may be purchased from the Commission's copy contractor, Qualex International, Portals II, 445 12th Street, SW., Room CY-B402, Washington, DC 20554.

1. The Commission establishes the information that U.S. satellite operators must file with the Commission for compliance with the International Telecommunication Union (ITU) satellite cost recovery program, as modified by the recent meeting of the ITU Council.

2. The information to be provided is as follows: (1) Name of contact, (2) name of company and office, (3) address, (4) e-mail address, (5) telephone number, and (6) fax number.

3. The point of contact may be a party other than the applicant or licensee, acting pursuant to an agreement between the applicant or licensee and the third party in which the third party assumes responsibility for payment of these fees.

4. Satellite filings subject to ITU cost recovery charges include certain advance publication submissions, requests for coordination or agreement (Articles S9 and S11 of the Radio Regulations), and requests for modification of the space service plans contained in Appendices S30, S30A, and S30B of the Radio Regulations that were received by the ITU after November 7, 1998. Advance publication filings not subject to coordination procedures (generally non-geosynchronous orbit (NGSO) systems) that were received by the ITU after November 7, 1998 are also subject to cost recovery.

Federal Communications Commission.
John V. Giusti,
Chief, International Spectrum and Communications Policy Branch, International Bureau.

[FR Doc. 02-2362 Filed 1-30-02; 8:45 am]

BILLING CODE 6712-01-P